ENVIRONMENTAL PROTECTION AGENCY

[FRL-11240-01-R9]

Revision of Approved Primacy Program for the Navajo Nation

AGENCY: Environmental Protection Agency (EPA).

ACTION: Notice of approval.

SUMMARY: Notice is hereby given that the Navajo Nation revised its approved primacy program under the federal Safe Drinking Water Act (SDWA) by adopting regulations that effectuate the Federal Stage 2 Disinfectants and Disinfection Byproducts Rule (S2 DBPR) and the Ground Water Rule (GWR). The Environmental Protection Agency (EPA) has determined that Navajo Nation's revision request meets the applicable SDWA program revision requirements and the regulations adopted by the Navajo Nation are no less stringent than the corresponding federal regulations. Therefore, EPA approves this revision to Navajo Nation's approved primacy program. However, this determination on the Navajo Nation's request for approval of a program revision shall take effect in accordance with the procedures described below in the SUPPLEMENTARY INFORMATION section of this notice after the opportunity to request a public hearing.

DATES: A request for a public hearing must be received or postmarked before September 29, 2023.

ADDRESSES: Documents relating to this determination that were submitted by the Navajo Nation as part of its program revision request are available for public inspection online at https://www.navajoepa.org or available upon request by emailing ybarney@navajopublicwater.org. Should you have difficulty accessing the website, please contact Yolanda Barney, Navajo Nation PWSS Program, via email at ybarney@navajopublicwater.org.

FOR FURTHER INFORMATION CONTACT: Nnana Edmund, EPA Region 9, Drinking Water Section; via telephone at (415) 972-3996 or via email address at edmund.nnana@epa.gov.

SUPPLEMENTARY INFORMATION: Background. EPA approved the Navajo Nation's initial application for primary enforcement authority (“primacy”) of drinking water systems on October 23, 2000. Since initial primacy approval, EPA has approved various revisions to Navajo Nation's primacy program. For the revision covered by this action, EPA promulgated the S2 DBPR on January 4, 2006 (71 FR 387) with technical corrections on January 27, 2006 (71 FR 4644) and June 29, 2006 (71 FR 37168) and minor corrections on November 14, 2008 (73 FR 67456-87463) to strengthen public health protection by tightening compliance monitoring requirements for Trihalomethanes and Haloacetic acids, targeting public water systems with the greatest health risk. EPA promulgated the GWR on November 8, 2006 (71 FR 65574) to provide protection against microbial pathogens in public water systems using groundwater sources. EPA has determined that the Navajo Nation has incorporated by reference into law, the S2 DBPR and GWR requirements that are comparable to and no less stringent than the federal requirements. EPA has also determined that Navajo Nation's program revision request meets all of the regulatory requirements for approval, as set forth in 40 CFR 142.12, including a side-by-side comparison of the Federal requirements demonstrating the corresponding Navajo Nation authorities, additional materials to support special primacy requirements of 40 CFR 142.16, a review of the requirements contained in 40 CFR 142.10 necessary for Navajo Nation to attain and retain primary enforcement responsibility, and a statement by the Navajo Nation Attorney General certifying that Navajo Nation's laws and regulations to carry out the program revision were duly adopted and are enforceable. The Attorney General's statement also affirms that there are no environmental audit privilege and immunity laws that would impact Navajo Nation's ability to implement or enforce the Navajo Nation laws and regulations pertaining to the program revision. Therefore, EPA approves this revision of the Navajo Nation's approved primacy program. The Technical Support Document, which provides the EPA's analysis of the Navajo Nation's program revision request, is available by submitting a request to the following email address: edmund.nnana@epa.gov. Please note “Technical Support Document” in the subject line of the email.

Public Process. Any interested person may request a public hearing on this determination. A request for a public hearing must be received or postmarked before September 29, 2023 and addressed to the Regional Administrator of EPA Region 9, via the following email address: R9dw-program@epa.gov, or by contacting the EPA Region 9 contact person listed above in this notice by telephone if you do not have access to email. Please note “Program Revision Determination” in the subject line of the email. The Regional Administrator may deny frivolous or insubstantial requests for a hearing. If a timely request for a public hearing is made, then EPA Region 9 may hold a public hearing. Any request for a public hearing shall include the following information: 1. The name, address, and telephone number of the individual, organization, or other entity requesting a hearing; 2. A brief statement of the requesting person's interest in the Regional Administrator's determination and of information that the requesting person intends to submit at such hearing; and 3. The signature of the individual making the request, or, if the request is made on behalf of an organization or other entity, the signature of a responsible official of the organization or other entity.

If EPA Region 9 does not receive a timely request for a hearing or a request for a hearing was denied by the Regional Administrator for being frivolous or insubstantial, and the Regional Administrator does not elect to hold a hearing on their own motion, EPA's approval shall become final and effective on September 29, 2023, and no further public notice will be issued.

Authority: Section 1413 of the Safe Drinking Water Act, as amended, 42 U.S.C. 300g-2 (1996), and 40 CFR part 142 of the National Primary Drinking Water Regulations.

Dated: August 8, 2023.
Martha Guzman Aceves,
Regional Administrator, EPA Region 9.

[FR Doc. 2023-17172 Filed 8-29-23; 8:45 am]

BILLING CODE 6560-50-P